Title 3—

The President

Proclamation 8621 of December 22, 2010

National Slavery and Human Trafficking Prevention Month, 2011

By the President of the United States of America

A Proclamation

Our Nation was founded on the enduring principles of equality and freedom for all. As Americans, it is our solemn responsibility to honor and uphold this legacy. Yet, around the world and even within the United States, victims of modern slavery are deprived of the most basic right of freedom. During National Slavery and Human Trafficking Prevention Month, we rededicate ourselves to preventing and ending human trafficking, and we recognize all who continue to fight this serious human rights violation.

Human trafficking is a global travesty that takes many forms. Whether forced labor or sexual trafficking, child soldiering or involuntary domestic servitude, these abuses are an affront to our national conscience, and to our values as Americans and human beings. There is no one type of victim—men and women, adults and children are all vulnerable. From every corner of our Nation to every part of the globe, we must stand firm in defense of freedom and bear witness for those exploited by modern slavery.

At the start of each year, Americans commemorate the Emancipation Proclamation, which became effective on January 1, 1863, and the 13th Amendment, which was signed by President Abraham Lincoln and sent to the States for ratification on February 1, 1865. These seminal documents secured the promise of freedom for millions enslaved within our borders, and brought us closer to perfecting our Union. We also recall that, over 10 years ago, the Victims of Trafficking and Violence Protection Act of 2000 renewed America’s commitment to combating modern slavery domestically and internationally. With this law, America reaffirmed the fundamental promise of “forever free” enshrined within the Emancipation Proclamation.

We cannot strengthen global efforts to end modern slavery without first accepting the responsibility to prevent, identify, and aggressively combat this crime at home. No country can claim immunity from the scourge of human rights abuses, or from the responsibility to confront them. As evidence of our dedication to a universal struggle against this heinous practice, the Department of State’s “Trafficking in Persons Report 2010” included America in its rankings for the first time, measuring our efforts by the same standards to which we hold other nations. Looking ahead, we must continue to aggressively investigate and prosecute human trafficking cases within our own borders.

Although the United States has made great strides in preventing the occurrence of modern slavery, prosecuting traffickers and dismantling their criminal networks, and protecting victims and survivors, our work is not done. We stand with those throughout the world who are working every day to end modern slavery, bring traffickers to justice, and empower survivors to reclaim their rightful freedom. This month, I urge all Americans to educate themselves about all forms of modern slavery and the signs and consequences of human trafficking. Together, we can combat this crime within our borders and join with our partners around the world to end this injustice.

NOW, THEREFORE, I, BARACK OBAMA, President of the United States of America, by virtue of the authority vested in me by the Constitution and the laws of the United States, do hereby proclaim January 2011 as National Slavery and Human Trafficking Prevention Month, culminating in the annual celebration of National Freedom Day on February 1. I call upon the people of the United States to recognize the vital role we can play in ending modern slavery and to observe this month with appropriate programs and activities.

IN WITNESS WHEREOF, I have hereunto set my hand this twenty-second day of December, in the year of our Lord two thousand ten, and of the Independence of the United States of America the two hundred and thirty-fifth.

[FR Doc. 2010-33058

Filed 12-29-10; 8:45 am]

Billing code 3195-W1-P